DEPARTMENT OF TRANSPORTATION

Federal Railroad Administration

[Docket No. FRA-2023-0002-N-24]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On July 21, 2023, FRA published a notice providing a 60-day period for public comment on the ICR.

DATES: Interested persons are invited to submit comments on or before February 21, 2024.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285, or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On July 21, 2023, FRA published a 60-day notice in the Federal Register soliciting public comment on the ICR for which it is now seeking OMB approval. See 88 FR 47233. FRA received 11 comments, summarized below, related to the proposed collection of information.

FRA received several comments from labor organizations, individuals (including a railroad employee), the National Railroad Passenger Corporation (Amtrak), and interested coalitions that strongly support this proposed ICR. Noting their safety concerns with long trains, the Transportation Division of the International Association of Sheet Metal, Air, Rail and Transportation workers (SMART-TD), the Transportation Trades Department of the AFL-CIO (TTD), an individual railroad employee, and the Illinois Commerce Commission (ICC) provided feedback regarding the steady and significant increase of long train lengths and noted that railroads already retain some of the data FRA is proposing to collect. SMART-TD commented that “tracking the lengths and tonnage of all freight trains will take this information from the realm of anecdotal to actionable.” Further, TTD commented that, “This information collection request comes at a time of widespread safety issues in the freight rail industry” and “We commend FRA for moving forward with this ICR and request that the agency consider our recommended additions to the proposed reporting requirements.” Amtrak noted that freight traffic has a major impact on the performance of Amtrak's trains and that increasingly long freight trains have exacerbated these problems. The prevailing opinion of these supportive commenters is that this proposed collection of information on train length is essential to understanding how to improve the safe and efficient operation of long trains.

In expressing support for this ICR, various commenters encouraged FRA to collect additional categories of information. For example, a group of nine urban Chicago communities, identified as the Coalition to Stop CPKC, recommended that the monthly data be presented in a format that allows interested parties to determine increasing train lengths in key regional areas. TTD encouraged FRA to consider collecting data related to train weight distribution, the number of buffer cars between hazardous materials shipments and crew member locations, and the presence of distributed power units (DPUs).

FRA did not add these categories because requiring respondents to provide this additional information without further FRA review, could create additional requirements that are beyond the initial purpose of this information collection. Similarly, commenter recommendations to include variables, such as delays to emergency responders due to blocked crossings and establishing a retroactive baseline year, are not being considered at this time. FRA directs commenters to field IDs F22 through F24.C of Form FRA F 6180.277, which request blocked crossing information. Once the ICR has been approved, FRA will review the data collected and consider adding additional data categories in the future.

Two individuals commented that the proposed ICR creates an excessive paperwork burden on respondents and that they do not believe FRA will be able to process and analyze the collected data in a timely manner. These commenters also asserted they do not believe FRA is avoiding duplicative collections by reviewing train length data collected on Form FRA F 6180.54. FRA is cognizant of the increased paperwork burdens that collecting this type of data create and has incorporated several measures to minimize them. As an example, FRA notes that reviewing train length information from existing Form FRA F 6180.54 under the Special Study Block 49a data field, rather than collecting the data on Form FRA F 6180.277, will avoid duplicative collections. When developing this proposed ICR, FRA considered the volume of data to be collected and the agency's capability to collect, analyze, and review it. Additionally, FRA's estimate of 40 minutes per month for the average time per response, or 8 hours annually, is based on data-compiling methods already in use by Class I railroads for other FRA reporting requirements. Furthermore, FRA agrees with the ICC's comment that the burden will be manageable and will decrease over time once a railroad has established the protocol to collect, if the railroad does not already do so, and present this data.

FRA received comments that the ICR does not define what constitutes “emergency”, and “communication event losses”. FRA addressed this comment by revising field ID F12, to include reference to 49 CFR 220.13 to define “emergency events”. “Communication loss events” are described in field IDs F13 through F15.C of Form FRA F 6180.277. Commenters also asserted that FRA should collect data on broken drawbars and that FRA omitted the word “certification” with respect to engineer certification revocations.

In response to this feedback, and upon further review, FRA agrees with the recommendation to collect data on broken drawbars as part of the “draft system.” ¹ To accomplish this, FRA is updating the data field description in Form FRA F 6180.277 field IDs F16 through F16.C by replacing the term “broken knuckles” with “train separations due to broken couplers and draft gear.” Additionally, FRA changed the term “knuckles” to “couplers” in field IDs F16 through F16.C to be consistent with railroad terminology used in FRA's regulations. Further, FRA updated the form instructions in field ID F2 to “The reporting railroad alphabetic code must match the code used in the submission of Form FRA F 6180.54 to FRA” to make it clear which data are being requested.

¹ See 49 CFR 229.61.

FRA also acknowledges the omission of the word “certification” and is updating the language throughout Form FRA F 6180.277 from “engineer revocations” to “engineer certification revocations”. FRA has uploaded the updated form in the PRA docket referenced above at https://www.regulations.gov/docket/FRA-2023-0002/document. From that page, Form FRA F 6180.277 can be accessed by using the “refine results” menu to the left of the screen. Under “Document Type” check the box labeled “Supporting & Related Material” and the form will be displayed under the search results.

The Coalition to Stop CPKC commented that FRA is silent on the extent to which the reported data would be publicly available. FRA is planning to analyze the collected data and may publicly share the data or FRA's analysis in reports, testimony, or other safety-related agency actions.

In the proposed ICR, FRA stated that the proposal would require Class I freight railroads to provide FRA with the information in Form FRA F 6180.277 on a monthly basis ² without specifying when it would expect the form to be submitted. The proposed ICR also stated that “FRA is not asking railroads to provide train length information for any FRA-reportable accident or incident” that a railroad is required to report to FRA on a form under the agency's existing requirements so as to avoid seemingly duplicative reporting.³ As each railroad is required under the existing reporting regulation to submit required forms within 30 days after expiration of the month during which the accidents/incidents occurred,⁴ FRA is clarifying that the same 30-day submission and monthly reporting period applies to this information collection request. Requesting this information collection in conjunction with the existing reporting requirements will enable each Class I freight railroad to coordinate its submissions and avoid duplicative reporting as previously described.

² 88 FR 47233 at 47234.

³ Id. and 49 CFR part 225.

⁴ 49 CFR 225.11(b).

Before OMB decides whether to approve this proposed collection of information, it must provide 30 days' notice for public comment. Federal law requires OMB to approve or disapprove paperwork packages between 30 and 60 days after the 30-day notice is published. See 44 U.S.C. 3507(b)-(c), 5 CFR 1320.12(d), 60 FR 44978, 44983, Aug. 29, 1995.

The 30-day notice both informs and gives the regulated community the opportunity to file relevant comments and affords the agency adequate time to digest public comments before it renders a decision. See 60 FR 44983, Aug. 29, 1995. Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Class I Freight-Train Length Reporting.

OMB Control Number: 2130-NEW.

Abstract: On May 2, 2023, FRA issued Safety Advisory 2023-03, “Accident Mitigation and Train Length,” (Safety Advisory) to ensure railroads and railroad employees are aware of the potential complexities associated with operating longer trains and to recommend that they take appropriate measures to address those complexities to ensure the safe operation of such trains.⁵ The Safety Advisory cited three significant incidents that occurred since 2022 involving trains with more than 200 cars, each approximately more than 10,000 feet in length and weighing more than 17,000 trailing tons, where train handling and train makeup are believed to have caused, or contributed to, the accidents and incidents. In the Safety Advisory, FRA explained that the operation of these longer trains presents different, complex, operational challenges which can be exacerbated by the weight and makeup of trains. Consequently, FRA recommended that railroads review their operating rules and existing locomotive engineer certification programs to address operational complexities of train length, take appropriate action to prevent the loss of communications between end-of-train devices, and mitigate the impacts of long trains on blocked crossings.⁶

⁵ 88 FR 27570.

⁶ Id.

In the Safety Advisory, FRA also explained that, in 2019, the U.S. Government Accountability Office (GAO) issued a report finding that freight-train length, particularly for Class I railroads, increased in recent years.⁷ GAO was able to procure limited data from some of the railroads, including data indicating average train lengths of 6,100 feet and 7,500 feet from two Class I railroads.⁸ The data represent an increase in the average length of a train of about 25 percent for both railroads over a 10-year period.⁹ Each Class I railroad reportedly told GAO that they operate some number of longer trains, with one railroad reporting that it operates a train on a regular basis over 12,000 feet long and another railroad operating a train on a regular basis over 16,000 feet long.¹⁰ These same railroads responded that trains over 10,000 feet long were only 1 to 2 percent of their total train-miles.¹¹

⁷ Id. (citing GAO's May 2019 report titled RAIL SAFETY: Freight Trains Are Getting Longer, and Additional Information is Needed to Assess Their Impact, GAO-19-443 (available at https://www.gao.gov/assets/gao-19-443.pdf).

⁸ Id. at 11.

⁹ Id.

¹⁰ Id. at 12.

¹¹ Id.

In the Safety Advisory, FRA also indicated that it was in the process of conducting research on the operational complexities of longer trains, including air brake system performance and resulting train dynamics.¹² The Safety Advisory also noted that, in response to a statutory requirement, FRA entered into an agreement with the National Academies of Sciences, Engineering, and Medicine (NAS) to examine factors associated with the operation of freight trains longer than 7,500 feet. FRA notes, however, that any data collected from the industry during these studies may be no more detailed or complete than the data GAO was able to obtain from the railroads for its report.¹³

¹² https://railroads.dot.gov/sites/fra.dot.gov/files/2022-2/2023_RDT_CurrentProjects_complete_FINAL.pdf.

¹³ Information about NAS's study and its meeting agendas are available at https://www.nationalacadameies.org/our-work/impacts-of-trains-longer-than-7500-feet. The study was required by the Infrastructure Investment and Jobs Act, Public Law 117-58, 22422, 35 Stat. 751 (2021).

As a next step, FRA is initiating a new ICR to gather train length data from Class I freight railroads as the safety concerns associated with long trains largely focus on these railroads.¹⁴ Specifically, under the proposed information collection, Class I freight railroads would provide to FRA, on a monthly basis, data regarding the total number of trains operated, the total quantity of rolling equipment in those trains, and the total trailing tonnage in specified train length categories (e.g., less than or equal to 7,500 feet, greater than 7,500 feet). In addition, FRA proposes to collect data from the Class I freight railroads that may inform potential complexities and safety concerns associated with operating longer trains, such as the number of emergency events, communication loss events, train separations due to broken couplers and draft gear, air hose separations, positive train control enforcements, and the number of locomotive engineer certification revocations under 49 CFR part 240 and conductor certification revocations under 49 CFR part 242. The requested data will be collected monthly using an Excel-based form (Form FRA F 6180.277).

¹⁴ This ICR is limited to Class I railroads.

The data collection is necessary to create an industry-wide database that will allow FRA to make objective findings to support guidance or recommendations to the industry, or regulatory action. Of note, FRA is seeking to collect data on train length on an ongoing basis, as opposed to this being a one-time study. FRA will use the collected data to establish an initial baseline for the length of trains operating within the U.S. rail system as well as to determine if train lengths are changing over time. FRA may also use the collected data in future analyses to better understand the impact of train length on safety: e.g., to determine whether trains of certain lengths are disproportionately involved in certain type of accidents/incidents or other undesired events such as loss of communications or train stalling.

FRA has incorporated several measures to minimize respondents' paperwork burden in this proposed collection. For example, to avoid duplicating efforts, FRA is not asking railroads to provide train length information for any FRA-reportable accident or incident for which a Form FRA F 6180.54 is filed. Instead, for any train involved in an accident for which a Form FRA F 6180.54 is filed, FRA will review train length data collected on that form and will not seek to collect the same data proposed in this collection.

As provided by Congress to the Secretary of Transportation, and as delegated, FRA has broad statutory authority to oversee matters related to rail safety.¹⁵ As noted in the Safety Advisory, the greater operational complexities associated with longer trains necessitate that railroads take appropriate safety measures to manage their potentially more complex in-train forces. This proposed collection is a component of FRA's ongoing research to closely monitor and analyze the impact of train length on rail safety.

¹⁵ 49 U.S.C. 20103(a).

Type of Request: Approval of a new collection of information.

Affected Public: Businesses.

Form(s): Form FRA F 6180.277.

Respondent Universe: Class I freight railroads.

Frequency of Submission: Monthly/recurring.

Total Estimated Annual Responses: 72 reports.

Total Estimated Annual Burden: 576 hours.

Total Estimated Annual Burden Hour Dollar Cost Equivalent: $49,496.

FRA informs all interested parties that it may not conduct or sponsor, and a respondent is not required to respond to, a collection of information that does not display a currently valid OMB control number.

Authority: 44 U.S.C. 3501-3520.

Allison Ishihara Fultz,
Chief Counsel.

[FR Doc. 2024-01044 Filed 1-19-24; 8:45 am]

BILLING CODE 4910-06-P